DEPARTMENT OF HOUSING AND URBAN DEVELOPMENT

[Docket No. FR-5555-N-01]

Safe and Healthy Homes Investment Partnerships: Request for Comments

AGENCY: Office of Healthy Homes and Lead Hazard Control, HUD.

ACTION: Notice.

SUMMARY: This notice solicits public comment on a proposal developed by HUD that would establish the criteria that HUD will use to designate a community as a Safe and Healthy Homes Investment Partnership (SHHIP). While designating a community as a SHHIP does not directly provide any funding, bonus points may be awarded to SHHIP designees in future HUD Notices of Funding Availability (NOFAs).

DATES: Comments Due Date: October 14, 2011.

ADDRESSES: Interested persons are invited to submit comments regarding the criteria HUD should consider in designating SHHIP communities, as announced in this notice, to the Regulations Division, Office of General Counsel, Department of Housing and Urban Development, 451 7th Street, SW., Room 10276, Washington, DC 20410-0001. There are two methods for submitting public comments. All submissions must refer to the above docket number and title.

Submission of Hard Copy Comments. To ensure that the information is fully considered by all of the reviewers, each commenter submitting hard copy comments, by mail or hand delivery, should submit comments or requests to the address above, addressed to the attention of the Rules Docket Clerk. Due to security measures at all federal agencies, submission of comments or requests by mail often result in delayed delivery. To ensure timely receipt of comments, HUD recommends that any comments submitted by mail be submitted at least 2 weeks in advance of the public comment deadline.

Electronic Submission of Comments. Interested persons may submit comments electronically through the Federal eRulemaking Portal at http://www.regulations.gov. HUD strongly encourages commenters to submit comments electronically. Electronic submission of comments allows the commenter maximum time to prepare and submit a comment, ensures timely receipt by HUD, and enables HUD to make them immediately available to the public. Comments submitted electronically through the http://www.regulations.gov Web site can be viewed by interested members of the public. Commenters should follow instructions provided on that site to submit comments electronically.

No Facsimile Comments. Facsimile (FAX) comments are not acceptable.

Public Inspection of Comments. All comments submitted to HUD regarding this notice will be available, without charge, for public inspection and copying between 8 a.m. and 5 p.m. weekdays at the above address. Due to security measures at the HUD Headquarters building, an advance appointment to review the documents must be scheduled by calling the Regulations Division at 202-708-3055 (this is not a toll-free number). Copies of all documents submitted are available for inspection and downloading at http://www.regulations.gov.

FOR FURTHER INFORMATION CONTACT: Jon L. Gant, Director, Office of Healthy Homes and Lead Hazard Control, Department of Housing and Urban Development, 451 7th Street, SW., Room 8236, Washington, DC 20410, telephone number 202-708-0310 (this is not a toll-free number). Persons with hearing or speech impairments may access this number through TTY by calling the Federal Relay Service at 800-877-8339 (this is a toll-free number).

SUPPLEMENTARY INFORMATION:

I. Background

In 1999, Congress appropriated funds ¹ for healthy homes research and demonstration, finding that, “the Healthy Homes approach appears superior to addressing these problems one by one.” ² In the report commissioned by Congress as a part of that appropriation, it was determined that “[t]he costs of implementing multiple housing-based interventions are far lower than if they are implemented one at a time.” ³

¹ Public Law 105-276, 112 Stat. 2461 (1998).

² H.R. Rep. No. 105-610, at 40 (1999).

³ The Healthy Homes Initiative: A Preliminary Plan, (U.S. Dept. of Housing and Urban Development, Office of Lead Hazard Control, April 1999) Pg 5.

Building on this finding, the Office of Healthy Homes and Lead Hazard Control created the Healthy Homes Demonstration (HHD) and Healthy Homes Technical Studies (HHTS) grant programs to support health focused home assessment and intervention initiatives and research across the country. The HHD and HHTS grant programs funded multiple intervention models, utilizing private organizations, universities, units of local government and partnerships, and researched the effectiveness of many different intervention strategies. The results of the HHD and HHTS grant programs demonstrate the value to resident health of using several environmental intervention strategies and methodologies at once, including moisture control, allergen reduction, and integrated pest management. This work has contributed to the body of science concerning the interplay of health, housing, and the environment, and promoted the adoption of health oriented building interventions by homeowners and property managers nationally. Most of these studies and demonstration programs incorporate some form of multiple housing intervention strategy.

As the grant programs demonstrate the value to resident health of using multiple intervention strategies, pilot initiatives in several cities and counties began to formalize relationships among health, energy, and housing programs. Three of these initiatives, the National Coalition to End Childhood Lead Poisoning/Green and Healthy Homes Initiative (GHHI) (13 cities and 2 tribes nationally), the CT Efficiency Healthy Homes Initiative (Connecticut) and the One Touch Healthy Homes Intervention program (New Hampshire and Omaha, NE) successfully piloted the multiple assessment/intervention strategy. These initiatives also incorporated weatherization program interventions, funded by the U.S. Department of Energy and other local agencies or utilities, into their model. Overall, these models successfully braided federal, state, local funds as well as private philanthropic support. The outcomes from these models confirm that coordinated intervention strategies lead to more economical interventions, healthier residents, and a more comprehensive and effective service delivery.

II. Description of Proposed Certification Program

The Department believes that establishing a certification system that identifies communities that provide multiple housing based interventions and leverage non-federal resources will be the most effective way to deliver housing services for protecting the health and safety of residents. To encourage HUD applicants to formalize relationships among health, energy, and housing programs, the Department has developed a proposal to encourage the development of SHHIP communities. Toward this goal, the Department anticipates providing bonus points to SHHIP communities in the competitive distribution of HUD assistance in FY2013 and future years. Before implementing this proposal through HUD's FY2013 NOFAs, the Department is seeking comment on the process and criteria for identifying a community as a SHHIP. HUD's proposal would require applicants to demonstrate the following to the satisfaction of the Department:

1. The membership of the SHHIP will be determined by the applicant's submission requesting identification as the SHHIP, as approved by the Department. Every member of the SHHIP will receive the benefits of the certification.

2. The SHHIP must include among its members at least one unit of state or local government, and one private, non-profit partner (i.e., local philanthropic organization, community-based organization, community development corporation or redevelopment authority, etc.) The SHHIP may involve more than one unit of government and more than one private partner.

3. Within the partnership, the SHHIP must include each of the following service disciplines: housing rehabilitation, energy efficiency, and healthy home/lead hazard control. The SHHIP may involve more than one entity capable of providing each service.

4. The SHHIP must have a primary mission that encompasses:

a. Improving housing in a manner that is environmentally sustainable, healthy and safe,

b. Increasing the local workforce of healthy building professionals,

c. Improving the health outcomes of the community, particularly children and the elderly,

d. Improving the way in which services are delivered to the residents of the community, and

e. Achieving program sustainability.

5. The SHHIP's service methodology must include:

a. Providing clients with one single point of contact for the delivery of services provided by the partnership,

b. Utilizing the HUD Healthy Homes Rating Tool (HHRT),

c. Supporting common multi-disciplinary workforce training,

d. Reporting data in a standardized manner into a common system operated by HUD,

e. Providing service delivery in a unified manner,

f. Identifying and eliminating barriers to effective service delivery, and

g. Maximizing the benefits of health-based housing interventions.

A certification shall generally expire 2 years from the date of issuance. A SHHIP may renew their certification by submitting a new application to the Office of Healthy Homes and Lead Hazard Control. The Department may review a certification at any time, and in its sole discretion may revoke a certification prior to expiration.

III. Request for Public Comment

HUD specifically seeks comments on the following questions:

1. Regarding the partnership agreements, what documentation should be considered sufficient to show that a partnership exists and is robust enough to merit certification?

2. Regarding the composition of the partnership, are there any specific types of non-profit partners that should be required for certification?

3. Regarding the service disciplines included in the partnership, are there additional disciplines that should be represented, and what should HUD require as proof that each discipline is represented and appropriately credentialed? Should HUD set or adopt its own standards or should HUD accept a variety of standards adopted by State, or local units of government, private sector or non-profit organizations, or other federal agencies? Should a standard be set for each type of healthy home intervention?

4. Regarding the service methodology, what should HUD require as proof that the methodology will be employed?

5. Regarding the Healthy Homes Rating Tool, is this tool sufficient or should other tools be permitted and/or required?

6. Regarding the reporting of data, what data should HUD collect on units?

7. Regarding revocation of certifications, what standard should HUD use to determine if a certification should be revoked?

8. Regarding the certification process, on what grounds should an application for certification be denied? Furthermore, what appeal process should be in place for denied applications?

9. Should there be standards for maintaining certification, and if so what should be the requirement, e.g. continuing education requirements, actual on-the job-experience with units, and/or requirements that a specific number of units are treated on an annual basis that meet Healthy Homes certification Standards?

While HUD specifically seeks comments on the foregoing questions, HUD welcomes additional information that will help inform HUD's views on this issue.

Dated: September 7, 2011.
Jon L. Gant,
Director.

[FR Doc. 2011-23400 Filed 9-13-11; 8:45 am]

BILLING CODE 4210-67-P